DEPARTMENT OF THE INTERIOR

Bureau of Land Management

[LLWY921000 L14400000.ET0000, 18X; WYW 141567]

Notice of Proposed Withdrawal Extension and Opportunity for Public Meeting for the Whiskey Mountain Bighorn Sheep Winter Range, Wyoming

AGENCY: Bureau of Land Management, Interior.

ACTION: Notice of proposed withdrawal.

SUMMARY: The Assistant Secretary—Land and Minerals Management has approved a Bureau of Land Management (BLM) petition/application to extend the duration of Public Land Order (PLO) No. 7434 for an additional 20-year term. PLO No. 7434 withdrew 1,430.92 acres of public lands from location and entry under the United States mining laws to protect the Whiskey Mountain Bighorn Sheep Winter Range and capital investments in Fremont County, Wyoming. This Notice advises the public of an opportunity to comment on the application for the proposed withdrawal extension and to request a public meeting.

DATES: Comments and requests for a public meeting must be received by July 25, 2018.

ADDRESSES: All comments and meeting requests should be sent to the BLM Wyoming State Director, 5353 Yellowstone Road, Cheyenne, Wyoming 82009. Comments, including name and street address of respondents, will be available for public review at the BLM Lander Field Office, 1335 Main Street, Lander, Wyoming, during regular business hours 8:00 a.m. to 4:30 p.m., Monday through Friday, except holidays.

FOR FURTHER INFORMATION CONTACT: Michael Hogan, Realty Officer, BLM Wyoming State Office, address listed above, telephone: 307-775-6257, email: mthogan@blm.gov; or Leta Rinker, Realty Specialist, BLM Lander Field Office, 1335 Main Street, Lander, Wyoming 82520, telephone: 307-332-8405, email: lrinker@blm.gov. Persons who use a telecommunications device for the deaf (TDD) may call the Federal Relay Service (FRS) at 1-800-877-8339 to contact either of the above individuals during normal business hours. The FRS is available 24 hours a day, 7 days a week, to leave a message or question with the above individuals. You will receive a reply during normal business hours.

SUPPLEMENTARY INFORMATION: The withdrawal established by PLO No. 7434 (65 FR 15920) will expire March 23, 2020, and is incorporated herein by reference. The BLM has filed a petition/application to extend PLO No. 7434 for an additional 20-year term.

The purpose of the proposed withdrawal extension is to continue the withdrawal established by PLO No. 7434 to protect the Whiskey Mountain Bighorn Sheep Winter Range and capital investments in the area.

The use of a right-of-way, interagency, or cooperative agreement would not constrain nondiscretionary uses.

There are no suitable alternative sites since the lands described in PLO No. 7334 identify the area that has historically been used as bighorn sheep winter range due to the physical characteristics and because of the local weather conditions.

No water rights would be needed to fulfill the purpose of this withdrawal extension.

Comments, including name and street address of respondents, will be available for public review at the BLM Lander Field Office, 1335 Main Street, Lander, Wyoming, during regular business hours 8:00 a.m. to 4:30 p.m., Monday through Friday, except holidays.

Before including your address, phone number, email address, or other personal identifying information in your comment, you should be aware that your entire comment—including your personally identifying information—may be made publicly available at any time. While you may ask the BLM in your comment to withhold your personal identifying information from public review, we cannot guarantee that we will be able to do so.

Notice is hereby given that an opportunity for a public meeting is afforded in connection with the proposed withdrawal extension. All interested persons who desire a public meeting for the purpose of being heard on the proposed withdrawal extension must submit a written request to the State Director, BLM Wyoming State Office at the address in the ADDRESSES section, within 90 days from the date of publication of this Notice. If the authorized officer determines that a public meeting will be held, a Notice of the date, time, and place will be published in the Federal Register and local newspapers and also posted on the BLM website at: www.blm.gov at least 30 days before the scheduled date of the meeting.

This withdrawal extension proposal will be processed in accordance with the regulations set forth in 43 CFR 2310.4.

Authority: 43 CFR 2310.3-1

Dated: April 18, 2018.
Joseph R. Balash,
Assistant Secretary—Land and Minerals Management.

[FR Doc. 2018-08812 Filed 4-25-18; 8:45 am]

BILLING CODE 4310-22-P